DEPARTMENT OF STATE

[Public Notice: 6957]

Bureau of Educational and Cultural Affairs (ECA) Request for Grant Proposals: smART Power: Visual Arts

Announcement Type: New Cooperative Agreement.

Funding Opportunity Number: ECA/PE/C-CU-10-50.

Catalog of Federal Domestic Assistance Number: 19.415.

Key Dates:

Application Deadline: May 26, 2010.

Executive Summary: The Cultural Programs Division in the Office of Citizen Exchanges in the Bureau of Educational and Cultural Affairs (ECA) announces an open competition for one award to administer the “smART Power: Visual Arts” program. Under the “smART Power: Visual Arts” program, the Bureau seeks an organization capable of soliciting, selecting, and facilitating approximately ten (10) to thirty (30) collaborative visual arts projects, whereby U.S. visual artists will travel abroad to engage with foreign audiences for periods of approximately six to twelve weeks each.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The overall objective of the “smART Power: Visual Arts” program is to support the Bureau of Educational and Cultural Affairs' mission to increase mutual understanding between the peoples of the United States and other countries, emphasizing shared social and cultural values. The program will showcase the role of visual artists as vibrant, engaged, and innovative partners in addressing the broader social issues important to communities worldwide. International audiences will have an opportunity to engage with American artists and learn about our country's cultural history as well as the contemporary cultural scene. The American artists will themselves learn about the societies and cultures of the foreign host countries.

The “smART Power: Visual Arts” program will administer projects where U.S. artists travel to foreign locales and collaborate with local individuals and communities to create works of art. Projects will be designed to stimulate discourse about local or global social issues including, but not limited to the environment, education, health, girls'/women's issues, and freedom of expression. Approved projects will focus on direct community engagement that encourages dialogue, experimentation, and creativity. Participating U.S. artists and foreign communities will have an opportunity to strengthen connections and create long-term relationships through the mutual engagement fostered by the art projects. U.S. missions will benefit from these projects by enhancing their ties with the American artists as well as with the local audiences they serve.

Guidelines: The award period will begin approximately August 31, 2010, and continue through December 31, 2012. ECA intends to award one cooperative agreement to a qualified institution or organization to administer the “smART Power: Visual Arts” program globally. The cooperative agreement will support the organization and implementation of approximately ten (10) to thirty (30) art projects.

All applications must be submitted by public or private non-profit organizations meeting the provisions described in Internal Revenue code section 26 USD 501(c)(3). All artists selected must be U.S. citizens. Total funding for this competition is $1 million. Please Note: The Bureau reserves the right to reallocate funds it has initially allocated to this competition, based upon factors such as the number of applications received and responsiveness to the review criteria outlined. No guarantee is made or implied that a grant will be awarded for projects to any particular region.

The successful applicant for the cooperative agreement will organize the selection of approximately ten (10) to thirty (30) visual arts projects to be implemented abroad for periods of approximately six (6) to twelve (12) weeks each, as well as manage the administration of the program throughout the award period.

Proposals should reflect a practical understanding of global issues, and demonstrate sensitivity to cultural, political, economic and social differences in regions where projects may take place. Special attention should be given to describing the applicant organization's experience with planning and implementing complex and unpredictable logistical scenarios abroad. Applicants should identify any U.S. and foreign partner organizations and/or venues with whom they are proposing to collaborate, and describe previous cooperative projects to demonstrate their institutional capacity.

Projects will take place in countries to be designated by ECA and should primarily target and engage youth, underserved, and diverse populations, including Muslim and indigenous populations, as well as educators or groups that influence youth.

Award proposals should contain a detailed plan to work with ECA to identify and recruit U.S. visual artists to participate in the program, as well as a process for soliciting and reviewing proposals submitted by the U.S. artists through a competition for specific overseas projects. It is anticipated that no more than six months will be required to identify the first group of U.S. artists and solicit, review and select project proposals. Selected projects will be announced in or about February 2011, and project activities will be conducted and concluded by December 31, 2012.

The U.S. visual artists to be selected for specific projects must demonstrate high artistic ability, excellent interpersonal skills, and be conversant with the broader aspects of contemporary American society and culture. In addition to creating works of art, artists will conduct workshops, teach master classes, and perform other outreach activities.

Individual art projects deemed competitive under these programs should include the following elements:

• Dynamic public outreach, including a collaborative art project(s) with foreign community members, especially with youth and/or underserved or underprivileged populations.

• A description of how U.S. artists and foreign communities will benefit from participating in the projects; how the projects will stimulate public discourse and explore local or global social issues.

• A description of how U.S. artists, through their projects can encourage dialogue, experimentation, and creativity.

The award recipient's activities and responsibilities for these programs are as follows:

• Design and implementation of a process for openly soliciting applications from U.S. visual artists for international projects subject to ECA final approval.

• Design and implementation of a transparent process for reviewing and selecting proposals using criteria approved by ECA. Criteria may include, but are not limited to elements such as artistic quality/excellence of U.S. artist; U.S. artist experience with public outreach and foreign audiences; appropriateness of the project for the foreign policy context and objectives; opportunities for local outreach.

• Organization of procedures and events for announcing ECA's final decisions on proposals, including media coverage as appropriate.

• Advance project planning (including educational and outreach activities);

• Project implementation and monitoring;

• Processing and funding all administrative aspects of each project, including but not limited to disbursement of moneys to U.S. artists, travel arrangements, visas, immunizations, health insurance, purchase and shipment of supplies, payments and other applicable logistical elements.

• Arrangement of orientation sessions and pre-travel briefings for each artist or group of artists with State Department regional experts and ECA program officers in attendance. In the event a personal briefing session is not possible, a teleconference briefing should be scheduled.

• Production of logo and press and other materials to be used in outreach and program branding.

• Publicizing program activities and results to targeted U.S. and international media in a consultation with ECA, and, as applicable, the Public Affairs Sections of U.S. missions, and participating artists.

• Liaison and coordination with U.S. Missions and local foreign organizations, as appropriate;

• Evaluation of program activities;

• Reporting on project activities to ECA within one month of completion of project;

• Assisting artists and embassies with follow-on program development.

Successful applicants must be highly responsive and able to work in close consultation with ECA and the Public Affairs Sections of participating U.S. embassies overseas. Applicants should also have experience in global exchange planning and implementation, and should state how they intend to address the above elements in their proposal, particularly the specific procedures and criteria for the selection of American artists.

In a cooperative agreement, ECA/PE/C/CU is substantially involved in program activities above and beyond routine monitoring. ECA/PE/C/CU's activities and responsibilities for these programs are as follows:

• Determination of the countries for which projects will be selected. Countries will be those in all world regions of greatest importance to the Department of State's public diplomacy mission to build mutual understanding. Examples of countries where projects may take place include Egypt, Venezuela, Indonesia, Malaysia, Thailand, Syria and Russia. These are examples for purposes of the competition. ECA reserves the right to select participating countries based upon the overall policy priorities of the Department of State during the course of the cooperative agreement.

• Participation in the selection of artists and projects.

• Final approval of all projects and project arrangements.

• Arranging for participation of Department of State officers in pre-travel briefings and any debriefings that might take place.

II. Award Information

Type of Award: Cooperative Agreement. ECA's level of involvement in this program is listed under number I above.

Fiscal Year Funds: FY 2010.

Approximate Total Funding: $1,000,000.

Approximate Number of Awards: 1.

Approximate Average Award: $1,000,000.

Anticipated Award Date: August 31, 2010.

Anticipated Project Completion Date: December 31, 2012.

Additional Information

Pending successful implementation of this program and the availability of funds in subsequent fiscal years, it is ECA's intent to renew the cooperative agreement for two additional fiscal years, before openly competing it again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a.) Bureau grant guidelines require that organizations with less than four years experience in conducting international exchanges be limited to $60,000 in Bureau funding. ECA anticipates making one award, in an amount up to $1,000,000, to support program and administrative costs required to implement this exchange program. Therefore, organizations with less than four years experience in conducting international exchanges are ineligible to apply under this competition. The Bureau encourages applicants to provide maximum levels of cost sharing and funding in support of its programs.

(b.) Technical Eligibility: All proposals must comply with: (1) Full adherence to the guidelines stated herein and in the Solicitation Package; (2) proposal submission deadline; and (3) non-profit organization status, or your proposal will be declared technically ineligible and given no further consideration in the review process.

Applicants may submit only ONE proposal to administer the listed activities/programs. If more than one proposal is received from the same applicant, all submissions will be declared technically ineligible and will receive no further consideration in the review process. Please Note: Applicant organizations are defined by their legal name, and EIN number as stated on their completed SF-424 and additional supporting documentation outlined in the Proposal Submission Instructions (PSI) document.

IV. Application and Submission Information

Note: Please read the complete announcement before sending inquiries or submitting proposals. Once the RFGP deadline has passed, Bureau staff may not discuss this competition with applicants until the proposal review process has been completed.

IV.1. Contact Information to Request an Application Package

Please contact the Cultural Programs Division (ECA/PE/C/CU) in the Office of Citizen Exchanges, Bureau of Educational Affairs, U.S. Department of State, SA-5, 2200 C Street, NW., 3rd Floor, Washington, DC 20522-0503; tel 202-632-6425; fax 202-632-9355; e-mail StaplesCD@state.gov to request a Solicitation Package. Please refer to the Funding Opportunity Number ECA/PE/C-CU-10-50 located at the top of this announcement when making your request.

Alternatively, an electronic application package may be obtained from awards.gov. Please see section IV.3f for further information.

The Solicitation Package contains the Proposal Submission Instruction (PSI) document which consists of required application forms, and standard guidelines for proposal preparation.

Please specify Alan Cross and refer to the Funding Opportunity Number ECA/PE/C-CU-10-50 located at the top of this announcement and ``smART Power: Visual Arts'' on all other inquiries and correspondence related to that program.

IV.2. To Download a Solicitation Package Via Internet

The entire Solicitation Package may be downloaded from the Bureau's Web site at http://exchanges.state.gov/awards/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, the award recipient will also be required to submit a one-page document, derived from its program reports, listing and describing its award activities. For the award recipient, the names of directors and/or senior executives (current officers, trustees, and key employees), as well as the one- page description of award activities, will be transmitted by the State Department to OMB, along with other information required by the Federal Funding Accountability and Transparency Act (FFATA), and will be made available to the public by the Office of Management and Budget on its USASpending.gov website as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The following is for informational purposes only and is not directly relevant to this solicitation. The Bureau of Educational and Cultural Affairs places critically important emphases on the security and proper administration of the Exchange Visitor (J visa) Programs and adherence by award recipients and sponsors to all regulations governing the J visa.

A copy of the complete regulations governing the administration of Exchange Visitor (J) programs is available at http://exchanges.state.gov or from: United States Department of State, Office of Exchange Coordination and Designation, Office of Designation, ECA/EC/D, SA-5, Floor C2, Department of State, Washington, DC 20522-0582.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3 Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, demonstrating concrete actions to apply knowledge in work or community; greater participation and responsibility in civic organizations; interpretation and explanation of experiences and new knowledge gained; continued contacts between participants, community members, and others.

4. Institutional changes, such as increased collaboration and partnerships, policy reforms, new programming, and organizational improvements.

Please Note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

The recipient organization will be required to provide reports analyzing its evaluation findings to the Bureau in its regular program reports. All data collected, including survey responses and contact information, must be maintained for a minimum of three years and provided to the Bureau upon request.

IV.3d.4. Describe your plans for: i.e. sustainability, overall program management, staffing, coordination with ECA and PAS or any other requirements etc.

IV.3e. Please take the following information into consideration when preparing your budget:

IV.3e.1. Applicants must submit SF-424A—“Budget Information—Non-Construction Programs” along with a comprehensive budget for the entire program. The award may not exceed $1,000,000. There must be a summary budget as well as breakdowns reflecting both administrative and program budgets. Applicants may provide separate sub-budgets for each program component, phase, location, or activity to provide clarification.

IV.3e.2. Allowable costs for the program include the following:

(1) Program Expenses, including but not limited to: Domestic and international travel for the selected artists (per The Fly America Act); visas and immunizations; airport taxes and country entrance fees; honoraria; educational and project materials and presentation items; excess and overweight baggage fees; press kits and promotional materials; follow-on activities; monitoring and evaluation; and international travel for program implementation and/or evaluation purposes.

The following guidelines may be helpful in developing a proposed budget:

A. Travel Costs. International airfares (per The Fly America Act), transit costs, ground transportation, and visas for participating artists to travel to the project destinations.

B. Per Diem: Domestic per diem rates may be accessed at: http://www.gsa.gov/Portal/gsa/ep/contentView.do?contentId=17943&contentType=GSA_BASIC. Foreign per diem rates may be accessed at: http://aoprals.state.gov/content.asp?content_id=184&menu_id=78.

C. Sub-awardees and Consultants. Sub-awardee organizations may be used, in which case the written agreement between the prospective award recipient and sub-awardee should be included in the proposal. Sub-awards must be itemized in the budget under General Program Expenses. Consultants may be used to provide specialized expertise. Daily honoraria cannot exceed $200 per day, and applicants are strongly encouraged to use organizational resources, and to cost share heavily in this area.

D. Health Insurance. Each participating artist will be covered under the terms of the ECA-sponsored Accident and Sickness Program for Exchanges (ASPE) health insurance program. The cost for international travel insurance for staff travel may be included in the proposal budget.

E. Honoraria for participating artists. Daily honorarium is $200 per day for each artist.

F. Educational Material and Promotional Items. Artists may use these funds to purchase project material and promotional items whether in the U.S. or abroad. ECA funds for educational and promotional items (e.g. CDS, DVDS, catalogues, brochures, etc.) should be tailored to meet the needs of the project and be proportional to the overall project cost. Material costs may be subject to change once actual projects are scheduled; however, for proposal budget purposes, costs should be estimated at $1,000 per project.

G. Excess Baggage. Excess baggage costs are based on the size and weight of art materials and supplies. Excess baggage estimates may be subject to change once actual projects are scheduled; however for proposal budget purposes, costs should be estimated at $500 per visual arts project.

H. Immunizations/Visas. For purposes of a proposed budget, line items for immunizations should be estimated at $400 per artist, and visas/visa photos should be estimated at $200 per artist.

I. Press Kits. As appropriate, based on the project and foreign country, the award recipient should design and create press kits in consultation with ECA. This line item may include funds for designing and publishing print materials and/or CD's, DVD's.

J. Staff Travel. Allowable costs include domestic staff travel for one staff member to meet with sub-awardees. International staff travel will be allowable, especially if associated with monitoring and evaluation, as long as costs for each project are completely covered. Cost-sharing for staff travel is strongly encouraged.

2. Administrative Costs. Costs necessary for the effective administration of the program may include salaries for award recipient organization employees, benefits, and other direct and indirect costs per detailed instructions in the Solicitation Package. While there is no rigid ratio of administrative to program costs, proposals in which the administrative costs do not exceed 25% of the total requested from ECA award funds will be more competitive on cost effectiveness. Please refer to the Solicitation Package for complete budget guidelines and formatting instructions.

Please refer to the Solicitation Package for complete budget guidelines and formatting instructions.

IV.3f. Application Deadline and Methods of Submission

Application Deadline Date: May 26, 2010.

Reference Number: ECA/PE/C/CU-10-50.

Methods of Submission:

Applications may be submitted in one of two ways:

(1.) In hard-copy, via a nationally recognized overnight delivery service (i.e., Federal Express, UPS, Airborne Express, or U.S. Postal Service Express Overnight Mail, etc.), or

(2.) Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important Note: When preparing your submission please make sure to include one extra copy of the completed SF-424 form and place it in an envelope addressed to “ECA/EX/PM”.

The original and ten copies of the application should be sent to: Program Management Division, ECA-IIP/EX/PM, Ref.: ECA/PE/C/CU-10-50, SA-5, Floor 4, Department of State, 2200 C Street, NW., Washington, DC 20522-0504.

IV.3f.2 Submitting Electronic Applications

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the `Get Started' portion of the site (http://www.Grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the website. ECA strongly recommends that all potential applicants review thoroughly the Grants.gov Web site, well in advance of submitting a proposal through the Grants.gov system. ECA bears no responsibility for data errors resulting from transmission or conversion processes.

Direct all questions regarding Grants.gov registration and submission to: Grants.gov Customer Support, Contact Center Phone: 800-518-4726, Business Hours: Monday-Friday, 7 a.m.-9 p.m. Eastern Time, E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via grants.gov can take up to two business days. Therefore, we strongly recommend that you not wait until the application deadline to begin the submission process through grants.gov. ECA will not notify you upon receipt of electronic applications.

It is the responsibility of all applicants submitting proposals via the Grants.gov web portal to ensure that proposals have been received by Grants.gov in their entirety, and ECA bears no responsibility for data errors resulting from transmission or conversion processes.

IV.3f.3 Only one application may be submitted by an organization. Submission of more than one application will automatically disqualify that organization for all applications.

IV.3g. Intergovernmental Review of Applications Executive Order 12372 Does Not Apply to This Program

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Program Planning and Ability to Achieve Objectives: Proposals should exhibit originality, substance and precision. The program plan should state the project's relevance to the U.S. Department of State's foreign policy goals. Program objectives should be stated clearly and should reflect the organization's expertise in the visual arts and in the area of community outreach. Objectives should be reasonable, feasible, and flexible. Detailed agenda and plan should adhere to the program overview and guidelines described above. Proposals should include a detailed timeline/agenda for accomplishing all of the program activities including application phases, participant selection, project implementation and project monitoring.

2. Institutional Capacity/Record: Proposals should include the institution's mission and date that 501(c) 3 status was approved. Proposals should reflect institution's expertise in the subject areas, knowledge of conditions overseas, and expertise in planning programs that strengthen connections between the United States and other countries. Proposed personnel and institutional resources should be adequate and appropriate to achieve the program or project's goals.

Proposals should demonstrate an institutional record of successful exchange programs, including responsible fiscal management and full compliance with all reporting requirements for past Bureau awards (grants or cooperative agreements) as determined by Bureau Grants Staff. The Bureau will consider the past performance of prior recipients and the demonstrated potential of new applicants. Institutions with previous successful experience in conducting exchange programs with the U.S. Government will be deemed more competitive. Proposals must include references with name and contact information for other assistance awards the applicant has received in the event the Bureau chooses to be in touch directly.

The Bureau strongly encourages submission of letters of support and commitment from proposed partner organizations.

3. Multiplier Effect/Impact: Proposed programs should strengthen long-term mutual understanding, including maximum sharing of information and establishment of long-term institutional and individual linkages. Proposals should demonstrate a clear understanding of how the individual art projects can have a long lasting impact on the foreign community.

4. Support of Diversity: Proposals should demonstrate substantive support of the Bureau's policy on diversity. Achievable and relevant features should be cited in both program administration (selection of participants, program venue and program evaluation) and program content (orientation and wrap-up sessions, program meetings, resource materials and follow-up activities).

5. Follow-on Activities: Proposals should provide a plan to conduct activities after the Bureau-funded project has concluded in order to ensure that Bureau-supported programs are not isolated events. Post-award activities must be funded by contributions from sources outside the Bureau. Costs for these activities should not appear in the proposal budget, but should be outlined in the narrative.

6. Project Monitoring and Evaluation: Proposals should include a detailed plan to monitor and evaluate the program. Competitive evaluation plans will describe how the project's success at meeting program objectives in quantitative terms will be measured, and should include draft data collection instruments such as surveys and questionnaires, media coverage, and other significant local reaction to specific projects. Proposals should include a plan to evaluate the activities' success, both as the activities unfold and at the end of the program. ECA is especially interested in the qualitative and quantitative results of project activities both in terms of the impact on audiences, as well as on participants. It will be the award recipient's responsibility to inform the Bureau of exchange activity results and changes to the program plan and/or project timeline.

7. Cost-effectiveness and Cost Sharing: The overhead and administrative components of the proposal, including salaries and honoraria, should be kept as low as possible. All other items should be necessary and appropriate. Proposals should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.1b. In the event programming involves Iran, West Bank and Gaza, the following additional requirements may apply: A critical component of current U.S. government Iran policy is the support for indigenous Iranian voices. The State Department has made the awarding of awards for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. 2339A and 2339B; Executive Order 13224; and Homeland Security Presidential Directive 6. These licensing conditions mandate that the Department conduct a vetting of potential Iran awardees and sub-awardees for counter-terrorism purposes. To conduct this vetting the Department will collect information from awardees and sub-awardees regarding the identity and background of their key employees and Boards of Directors.

Note: To assure that planning for the inclusion of Iran complies with requirements, please contact Catherine Staples-Randolph at 202-632-6425 or StaplesCD@state.gov for additional information.

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Catherine Staples-Randolph at 202-632-6425 or StaplesCD@state.gov for additional information.

Special Provision for Performance in a Designated Combat Area (Currently Iraq and Afghanistan) (December 2008)

All Recipient personnel deploying to areas of combat operations, as designated by the Secretary of Defense (currently Iraq and Afghanistan), under assistance awards over $100,000 or performance over 14 days must register in the Department of Defense maintained Synchronized Pre-deployment and Operational Tracker (SPOT) system. Recipients of federal assistance awards shall register in SPOT before deployment, or if already in the designated operational area, register upon becoming an employee under the assistance award, and maintain current data in SPOT. Information on how to register in SPOT will be available from your Grants Officer or Grants Officer Representative during the final negotiation and approval stages in the federal assistance awards process. Recipients of federal assistance awards are advised that adherence to this policy and procedure will be a requirement of all final federal assistance awards issued by ECA.

Recipient performance may require the use of armed private security personnel. To the extent that such private security contractors (PSCs) are required, awardees are required to ensure they adhere to Chief of Mission (COM) policies and procedures regarding the operation, oversight, and accountability of PSCs.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/awards.

http://fa.statebuy.state.gov

VI.3 Reporting Requirements

You must provide ECA with a hard copy original plus ten copies of the following reports:

(1) A final program and financial report no more than 90 days after the expiration of the award;

(2) A concise, one-page final program report summarizing program outcomes no more than 90 days after the expiration of the award. This one-page report will be transmitted to OMB, and be made available to the public via OMB's USAspending.gov website—as part of ECA's Federal Funding Accountability and Transparency Act (FFATA) reporting requirements.

(3) A SF-PPR, “Performance Progress Report” Cover Sheet with all program reports.

(4) Quarterly program and financial reports that include final costs for each visual arts project and remaining award funds for additional projects.

(5) During the period of implementation of each visual arts project, bi-weekly reports to the ECA program office that include photographs, any media coverage and information on substantive elements of the project.

(6) No more than two weeks following conclusion of each visual arts project, a report and evaluation of the substantive aspects of the project (including budget) to the ECA program office.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

Program Data Requirements

The award recipient will be required to maintain specific data on program participants and activities in an electronically accessible database format that can be shared with the Bureau as requested. As a minimum, the data must include the following:

(1) Name, address, contact information and biographic sketch of all persons who travel internationally on funds provided by the agreement.

(2) Itineraries of international and domestic travel, providing dates of travel and cities in which any exchange experiences take place. Final schedules for in-country and U.S. activities must be received by the ECA Program Officer at least three work days prior to the official opening of the activity.

VII. Agency Contacts

For general (non-substantive) questions about this announcement, contact: Catherine Staples-Randolph at 202-632-6425 or StaplesCD@state.gov. For specific (substantive) questions about the “smART Power: Visual Arts” program, contact: Alan Cross, Cultural Programs Division (ECA/PE/C/CU), Room 3-K14, ECA/PE/C-CU-10-50, U.S. Department of State, SA-5, 2200 C Street, NW., Washington, DC 20522-0503; tel 202-632-6407; fax 202-632-9355; e-mail CrossA@state.gov.

All correspondence with the Bureau concerning this RFGP should reference the above title and number ECA/PE/C-CU-10-50 and the specific program being requested.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 14, 2010.
Maura M. Pally,
Acting Assistant Secretary for Educational and Cultural Affairs, U.S. Department of State.

[FR Doc. 2010-9076 Filed 4-19-10; 8:45 am]

BILLING CODE 4710-05-P